DEPARTMENT OF DEFENSE

Office of the Secretary

[Docket ID DoD-2014-OS-0151]

Submission for OMB Review; Comment Request

ACTION: Notice.

SUMMARY: The Department of Defense has submitted to OMB for clearance, the following proposal for collection of information under the provisions of the Paperwork Reduction Act.

DATES: Consideration will be given to all comments received by May 13, 2015.

FOR FURTHER INFORMATION CONTACT: Fred Licari, 571-372-0493.

SUPPLEMENTARY INFORMATION: Title, Associated Form aND OMB Number: Federal Write-In Absentee Ballot (FWAB), Standard Form 186 (SF- 186); OMB Control Number 0704-0502.

Type of Request: Existing Collection in use without an OMB Control Number

Number of Respondents: 1,200,000

Responses Per Respondent: 1

Annual Responses: 1,200,000

Average Burden Per Response: 15 minutes

Annual Burden Hours: 300,000

Needs and Uses: The information collection requirement is necessary to fulfill the requirement of the Uniformed and Overseas Absentee Voting Act (UOCAVA), 46 U.S.C. 1973ff wherein the Secretary of Defense is to prescribe the Federal write-in absentee ballot for absent uniformed service voters and overseas voters in general elections for Federal office. The Department of Defense, Under Secretary of Defense (Personnel and Readiness), Federal Voting Assistance Program, revised the SF 186, Federal Write-In Absentee Ballot and SF 186A, Federal Write-In Absentee Ballot (Electronic) to comply with Section 3506(c)(2)(A) of the Paperwork Reduction Act of 1995.

Affected Public: Individuals or households.

Frequency: On occasion.

Respondent's Obligation: Voluntary.

OMB Desk Officer: Ms. Jasmeet Seehra.

Written comments and recommendations on the proposed information collection should be sent to Ms. Jasmeet Seehra at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Mr. Frederick Licari.

Written requests for copies of the information collection proposal should be sent to Mr. Licari at WHS/ESD Directives Division, 4800 Mark Center Drive, East Tower, Suite 02G09, Alexandria, VA 22350-3100.

Dated: April 7, 2015.
Aaron Siegel,
Alternate OSD Federal Register, Liaison Officer, Department of Defense.

[FR Doc. 2015-08302 Filed 4-10-15; 8:45 am]

BILLING CODE 5001-06-P